DEPARTMENT OF ENERGY

Federal Energy Regulatory Commission

[Docket No. EC02-46-000, et al.]

Harbor Cogeneration Company, et al.; Electric Rate and Corporate Regulation Filings

February 1, 2002.

Take notice that the following filings have been made with the Commission. Any comments should be submitted in accordance with Standard Paragraph E at the end of this notice.

1. Harbor Cogeneration Company; South Coast Energy Company; Black Hills Long Beach, Inc.

[Docket No. EC02-46-000]

Take notice that on January 29, 2002, Harbor Cogeneration Company (Harbor Cogeneration), South Coast Energy Company (South Coast Energy) and Black Hills Long Beach, Inc. (BH Long Beach) tendered for filing a joint application for authorization for South Coast Energy to transfer its Partnership Interests in Harbor Cogeneration to BH Long Beach.

Comment Date: 02-07-02 February 19, 2002.

2. Southern California Edison Company and California Independent System Operator Corporation

[Docket No. EC02-45-000]

Take notice, that on January 28, 2002, Southern California Edison Company (SCE) and the California Independent System Operator Corporation (ISO) tendered for filing in accordance with part 33 of the Federal Energy Regulatory Commission's Regulations (18 CFR part 33) a joint application pursuant to section 203 of the Federal Power Act for authority to transfer operational control of certain facilities from SCE to the ISO. The transmission facilities primarily consist of capacitors, capacitor banks and circuit breakers that have been added to the transmission system. The subject transfers will have no effect on SCE's or the ISO's other jurisdictional facilities or services and are compatible with the public interest.

SCE is seeking privileged treatment of certain single line diagrams, required by the Commission's regulations to be attached as an Exhibit to the Application, that depict the jurisdictional facilities at issue.

SCE and the ISO request that the Commission accept this Application for filing, to become effective 45 days after the date of filing. A copy of this filing was served upon the Public Utilities Commission of the State of California and the ISO.

Comment Date: 02-07-02 February 19, 2002.

3. Arizona Public Service Company

[Docket No. ER02-494-000]

Take notice that on January 29, 2002, Arizona Public Service Company (APS) tendered for filing a request to withdraw the filing of a service agreement under the Western Systems Power Pool with the Bonneville Power Administration in the above docket.

A copy of this filing has been served on the Bonneville Power Administration and the Arizona Corporation Commission.

Comment Date: 02-07-02 February 19, 2002.

4. Xcel Energy Services Inc.

[Docket No. ER02-873-000]

Take notice that on January 30, 2002, Northern States Power Company and Northern States Power Company (Wisconsin) (jointly NSP), wholly-owned utility operating company subsidiaries of Xcel Energy Inc., tendered for filing a Firm Point-to-Point Transmission Service Agreement between NSP and Madison Gas and Electric. NSP proposes the Agreement be included in the Xcel Energy Operating Companies FERC Joint Open Access Transmission Tariff, First Revised Volume No. 1, as Service Agreement 203-NSP, pursuant to Order No. 614.

NSP requests that the Commission accept the agreement effective January 1, 2002, and requests waiver of the Commission's notice requirements in order for the agreement to be accepted for filing on the date requested.

Comment Date: 02-07-02 February 19, 2002.

5. Xcel Energy Services Inc.

[Docket No. ER02-874-000]

Take notice that on January 29, 2002, Northern States Power Company and Northern States Power Company (Wisconsin) (jointly NSP), wholly-owned utility operating company subsidiaries of Xcel Energy Inc., tendered for filing two Firm Point-to-Point Transmission Service Agreements between NSP and Alliant Energy Corporate Services Inc.. NSP proposes the Agreements be included in the Xcel Energy Operating Companies FERC Joint Open Access Transmission Tariff, First Revised Volume No. 1, as Service Agreement 195-NSP and 204-NSP, pursuant to Order No. 614.

NSP requests that the Commission accept the agreements effective January 1, 2002, and requests waiver of the Commission's notice requirements in order for the agreements to be accepted for filing on the date requested.

Comment Date: 02-07-02 February 19, 2002.

6. Xcel Energy Services Inc.

[Docket No. ER02-875-000]

Take notice that on January 30, 2002, Public Service Company of Colorado (PSCo), wholly-owned utility operating company subsidiary of Xcel Energy Inc., tendered for filing Non-Firm and Short-Term Firm Point-to-Point Transmission Service Agreements between PSCo and Southwestern Public Service Company. PSCo proposes the Agreements be included in the Xcel Energy Operating Companies FERC Joint Open Access Transmission Tariff, First Revised Volume No. 1, as Service Agreement Nos. 118-PSCo and 119-PSCo, pursuant to Order No. 614.

PSCO requests that the Commission accept the agreements effective January 4, 2002, and requests waiver of the Commission's notice requirements in order for the agreement to be accepted for filing on the date requested.

Comment Date: 02-07-02 February 19, 2002.

7. Cinergy Services, Inc.

[Docket No. ER02-876-000]

Take notice that on January 29, 2002, Cinergy Services, Inc. (Cinergy) tendered for filing a Confirmation Letter to the Market-Based Service Agreement filed under Cinergy's Market-Based Power Sales Standard Tariff-MB (the Tariff) entered into between Cinergy and Wabash Valley Power Association, Inc. (Wabash).

Cinergy and Wabash are requesting an effective date of January 1, 2002.

Comment Date: 02-07-02 February 19, 2002.

8. Cinergy Services, Inc.

[Docket No. ER02-877-000]

Take notice that on January 29, 2002 Cinergy Services, Inc. (Cinergy) tendered for filing a Wholesale Market-Based Service Agreement and a Confirmation Letter for long term service under Cinergy's Wholesale Market-Based Power Sales Standard Tariff, No. 9 -MB (the Tariff) entered into between Cinergy and Southern Indiana Gas & Electric Company d/b/a Vectren Energy Delivery of Indiana, Inc. and Hoosier Energy Rural Electric Cooperative, Inc. (Alliance).

Cinergy and Alliance are requesting an effective date of January 1, 2002.

Comment Date: 02-07-02 February 19, 2002.

9. Xcel Energy Services Inc.

[Docket No. ER02-878-000]

Take notice that on January 29, 2002, Northern States Power Company and Northern States Power Company (Wisconsin) (jointly NSP), wholly-owned utility operating company subsidiaries of Xcel Energy Inc., tendered for filing eight Firm Point-to-Point Transmission Service Agreements between NSP and NSP Energy Marketing. NSP proposes the Agreements be included in the Xcel Energy Operating Companies FERC Joint Open Access Transmission Tariff, First Revised Volume No. 1, as Service Agreement Nos. 196-NSP, 197-NSP, 198-NSP, 199-NSP, 200-NSP, 201-NSP, 202-NSP, and 205-NSP, pursuant to Order No. 614.

NSP requests that the Commission accept all the agreements effective January 1, 2002, except 205-NSP is to be effective May 1, 2002, and requests waiver of the Commission's notice requirements in order for the agreements to be accepted for filing on the date requested.

Comment Date: 02-07-02 February 19, 2002.

10. Progress Energy Inc.On behalf of Carolina Power & Light Company

[Docket No. ER02-879-000]

Take notice that on January 29, 2002, Carolina Power & Light Company (CP&L) tendered for filing an executed Service Agreement between CP&L and the following eligible buyer, Old Dominion Electric Cooperative. Service to this eligible buyer will be in accordance with the terms and conditions of CP&L's Market-Based Rates Tariff, FERC Electric Tariff No. 5.

CP&L requests an effective date of January 7, 2002 for this Service Agreement. Copies of the filing were served upon the North Carolina Utilities Commission and the South Carolina Public Service Commission.

Comment Date: 02-07-02 February 19, 2002.

11. Entergy Services, Inc.

[Docket No. ER02-880-000]

Take notice that on January 29, 2002, Entergy Services, Inc. (Entergy), acting as agent for Entergy Arkansas, Inc. (EAI), tendered for filing, six copies of the Letter Agreement executed by Entergy, on behalf of EAI, and Associated Electric Cooperative, Inc. (AECI), for the purchase and sale of limited firm capacity and associated energy, and a Notice of Termination for that agreement.

Comment Date: 02-07-02 February 19, 2002.

12. Southwest Power Pool, Inc.

[Docket No.ER02-881-000]

Take notice that on January 29, 2002, Southwest Power Pool, Inc. (SPP) submitted for filing four executed service agreements for Firm Point-to-Point transmission Service with Southwestern Public Service Company d.b.a. Xcel Energy (Transmission Customer). SPP seeks an effective date of January 1, 2002 for each of these service agreements.

A copy of this filing was served on the Transmission Customer.

Comment Date: 02-07-02 February 19, 2002.

13. Southwest Power Pool, Inc.

[Docket No. ER02-882-000]

Take notice that on January 29, 2002, Southwest Power Pool, Inc. (SPP) tendered for filing an executed service agreement for Network Integration Transmission Service and an executed Network Operating Agreement with Kansas Gas and Electric Company (Network Customer). SPP seeks an effective date of January 1, 2002 for these service agreements.

A copy of this filing was served on the Network Customer.

Comment Date: 02-07-02 February 19, 2002.

14. Public Service Company of New Mexico

[Docket No. ER02-883-000]

Take notice that on January 30, 2002, Public Service Company of New Mexico (PNM) submitted for filing on behalf of itself and Tucson Electric Power Company (TEP) amendments to the Amended Interconnection Agreement between PNM and TEP. In addition, in compliance with Order No. 614, PNM submits cover pages for the applicable PNM and TEP service agreements. The revisions, for which PNM and TEP request an effective date of January 1, 2002, provide certain changes to the reserve sharing provision of the Amended Interconnection Agreement agreed to by PNM and TEP for 2002. PNM's filing is available for public inspection at its offices in Albuquerque, New Mexico.

Copies of the filing have been sent to TEP and to the New Mexico Public Regulation Commission.

Comment Date: 02-07-02 February 20, 2002.

15. Exelon Generation Company, LLC

[Docket No. ER02-884-000]

Take notice that on January 30, 2002, Exelon Generation Company, LLC (Exelon Generation), submitted for filing a power sales service agreement between Exelon Generation and EnergyUSA-TPC Corp. under Exelon Generation's wholesale power sales tariff, FERC Electric Tariff Original Volume No. 2

Comment Date: 02-07-02 February 20, 2002.

16. American Transmission Systems, Incorporated

[Docket No.ER02-885-000]

Take notice that on January 30, 2002, American Transmission Systems, Incorporated (ATSI), filed revised specifications to its network integration service and operating agreements with American Municipal Power-Ohio, Inc., and designated as 2nd Revised Service Agreement No. 214.

The proposed effective date for the revised service agreement is April 1, 2002.

Copies of this filing have been served on AMP-Ohio and the public utility commissions of Ohio and Pennsylvania.

Comment Date: 02-07-02 February 20, 2002.

17. Deseret Generation & Transmission Co-operative, Inc.

[Docket No. ER02-886-000]

Take notice that on January 30, 2002, Deseret Generation & Transmission Co-operative, Inc. (Deseret) submitted for filing an amendment to a Confirmation Agreement between Deseret and Utah Associated Municipal Power Systems (UAMPS) for a firm power sale pursuant to Schedule C of the Western Systems Power Pool Agreement.

Deseret requests an effective date of January 2, 2002.

A copy of this filing has been served on UAMPS and counsel to the WSPP.

Comment Date: 02-07-02 February 20, 2002.

18. California Independent System Operator Corporation

[Docket No. ER02-887-000]

Take notice that on January 30, 2002, the California Independent System Operator Corporation (ISO) submitted for Commission filing and acceptance the Utility Distribution Company Operating Agreement (UDC Operating Agreement) between the ISO and the City of Riverside, California.

The ISO requests that the UDC Operating Agreement be made effective as of October 25, 2001.

The ISO has served copies of this filing upon the City of Riverside, California and the Public Utilities Commission of the State of California.

Comment Date: 02-07-02 February 20, 2002.

19. California Independent System Operator Corporation

[Docket No. ER02-888-000]

Take notice that on January 30, 2002, the California Independent System Operator Corporation (ISO) submitted for filing, for informational purposes only, an executed Termination and Release Agreement between the ISO and DG Power, Inc., concerning Summer Reliability Agreements relating to the Border, El Cajon, Escondido, Midway, Mission, Panoche, and Vaca-Dixon generating plants.

The ISO has served copies of this filing upon DG Power, Inc., the Public Utilities Commission of the State of California, the California Energy Commission, and the California Electricity Oversight Board.

Comment Date: 02-07-02 February 20, 2002.

20. Ameren Services Company

[Docket No. ER02-889-000]

Take notice that on January 30, 2002, Ameren Services Company (ASC) tendered for filing Service Agreements for Long-Term Firm Point-to-Point Transmission Services between ASC and Ameren Energy, Western Resources, Cinergy Services, Inc., Xcel Energy, on behalf on Northern States Power Company and Illinois Power Company. ASC asserts that the purpose of the Agreements is to permit ASC to provide transmission service to the parties pursuant to Ameren's Open Access Transmission Tariff.

Comment Date: 02-07-02 February 20, 2002.

21. PPL Wallingford Energy LLC

[Docket No. ER02-890-000]

Take notice that on January 30, 2002, PPL Wallingford Energy LLC (PPL Wallingford), filed with the Federal Energy Regulatory Commission a Power Sales Agreement between PPL Wallingford and PPL EnergyPlus, LLC under PPL Wallingford's Market-Based Rate Tariff, FERC Electric Tariff, Revised Volume No. 1.

PPL Wallingford requests an effective date of December 31, 2001 for the Power Sales Agreement.

PPL Wallingford states that a copy of this filing has been provided to PPL EnergyPlus, LLC.

Comment Date: 02-07-02 February 20, 2002.

22. Southern California Edison Company

[Docket No. ER02-891-000]

Take notice, that on January 24, 2002, Southern California Edison Company (SCE) tendered for filing revisions to the Amended and Restated Power Contract, the Amended and Restated Firm Transmission Service Agreement, and the Amended and Restated Mojave Siphon Additional Facilities and Firm Transmission Agreement (collectively, Agreements) between SCE and the State of California Department of Water Resources (CDWR). The revisions to the Agreements reflect SCE's and CDWR's agreement to remove provisions regarding SCE performing scheduling and dispatching services for CDWR since CDWR now schedules its own transactions with the California Independent System Operator.

SCE requests the Commission to assign an effective date March 25, 2002 to the revisions to the Agreements. Copies of this filing were served upon the Public Utilities Commission of California and CDWR.

Comment Date: 02-07-02 February 14, 2002.

23. PPL Montana, LLC

[Docket No. ER02-892-000]

Take notice that on January 30, 2002, PPL Montana, LLC (PPL Montana), filed with the Federal Energy Regulatory Commission a Confirmation Agreement between PPL Montana and Constellation Power Source, Inc. (CSPI) under PPL Montana's Market-Based Rate Tariff, FERC Electric Tariff, Revised Volume No. 1.

PPL Montana requests an effective date of January 1, 2002 for the Confirmation Agreement.

PPL Montana states that a copy of this filing has been provided to CPSI.

Comment Date: 02-07-02 February 20, 2002.

24. Dorman Materials, Inc.

[Docket No. ER02-893-000]

Take notice that on January 30, 2002, Dorman Materials, Inc. (DMI) petitioned the Federal Energy Regulatory Commission (Commission) for acceptance of DMI Rate Schedule FERC No. 1; the granting of certain blanket approvals, including the authority to sell electricity at market-rates; and the waiver of certain Commission regulations.

DMI intends to engage in wholesale electric power and energy transactions as a marketer. DMI is not in the business of generating or transmitting electric power. DMI is a Minority Business Enterprise involved in electric energy marketing, with its primary purpose of serving retail and wholesale energy customers.

Comment Date: 02-07-02 February 20, 2002.

25. Generation Power, Inc.

[Docket No. ER02-894-000]

Take notice that on January 30, 2002, Generation Power, Inc. petitioned the Federal Energy Regulatory Commission (Commission) for acceptance of Generation Power Rate Schedule FERC No. 1; the granting of certain blanket approvals, including the authority to sell electricity at market-based rates; and the waiver of certain Commission regulations.

Generation Power intends to engage in wholesale electric power and energy purchases and sales as a marketer. Generation Power is not in the business of generating or transmitting electric power. Generation Power does not have any affiliates as defined at 18 CFR 161.2.

Comment Date: 02-07-02 February 20, 2002.

26. Duquesne Light Company

[Docket No. ER02-895-000]

Take notice that on January 30, 2002, Duquesne Light Company (DLC) filed a Service Agreement for Retail Network Integration Transmission Service and a Network Operating Agreement for Retail Network Integration Transmission Service dated January 1, 2002 with ValuSource Energy Services, LLC under DLC's Open Access Transmission Tariff (Tariff). The Service Agreement and Network Operating Agreement adds ValuSource Energy Services, LLC as a customer under the Tariff.

DLC requests an effective date of January 1, 2002 for the Service Agreement.

Comment Date: 02-07-02 February 20, 2002.

27. Wisconsin Power and Light Company

[Docket No. ER02-896-000]

Take notice that on January 30, 2002, Wisconsin Power and Light Company (WPL), tendered for filing a Service Agreement with Wisconsin Rapids.

WPL indicates that copies of the filing have been provided to Wisconsin Rapids and the Public Service Commission of Wisconsin.

Comment Date: 02-07-02 February 20, 2002.

28. Louisville Gas and Electric Company, Kentucky Utilities Company

[Docket No. ER02-897-000]

Take notice that on January 30, 2002, Louisville Gas and Electric Company (LG&E) and Kentucky Utilities Company (KU), whose principal place of business is located at 220 West Main Street, Louisville, Kentucky 40202, filed with the Federal Energy Regulatory Commission a short-term interconnection agreement with LG&E Capital Trimble County LLC (TCLC).

Under the agreement, TCLC will be permitted, on a temporary basis, to interconnect certain generating facilities to the LG&E and KU transmission system so as to allow TCLC to operate and maintain the facilities during their start-up and testing phase this spring. TCLC's interconnection rights pursuant to the terms of the agreement extend only until the completion of the start-up and testing phase of the facilities or until ownership of the facilities is transferred to LG&E and KU pursuant to Certificate of Convenience and Necessity filed by the utilities with the Kentucky Public Service Commission on January 23, 2002. The Agreement terminates automatically on the earlier of these dates.

Comment Date: 02-07-02 February 20, 2002.

29. Ameren Services Company

[Docket No. ER02-889-000]

Take notice that on January 30, 2002, Ameren Services Company (ASC) tendered for filing Service Agreements for Long-Term Firm Point-to-Point Transmission Services between ASC and Ameren Energy, Western Resources, Cinergy Services, Inc., Xcel Energy, on behalf on Northern States Power Company and Illinois Power Company. ASC asserts that the purpose of the Agreements is to permit ASC to provide transmission service to the parties pursuant to Ameren's Open Access Transmission Tariff.

Comment Date: 02-07-02 February 20, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-3202 Filed 2-8-02; 8:45 am]

BILLING CODE 6717-01-P